DEPARTMENT OF TRANSPORTATION

Office of the Secretary

[Docket ID Number: DOT-OST-2018-0068]

Notice of Submission of Proposed Information Collection to OMB; Agency Request for Reinstatement of Previously Approved Collections: Traveling by Air With Service Animals—U.S. Department of Transportation Service Animal Air Transportation Form and U.S. Department of Transportation Service Animal Relief Attestation Form

AGENCY: Office of the Secretary (OST), U.S. Department of Transportation (DOT).

ACTION: Notice; addendum.

SUMMARY: The U.S. Department of Transportation (Department or DOT) published a notice for comment that confirms the Department's intention to renew Office of Management and Budget (OMB) Control Number 2105-0576, concerning Traveling by Air with Service Animals—U.S. Department of Transportation Service Animal Air Transportation Form, and U.S. Department of Transportation Service Animal Relief Attestation Form. The purpose of this addendum is to notify the public that an accessible version of the notice is available for view on DOT's Office of Aviation Consumer Protection website.

DATES: This addendum is effective May 10, 2024.

FOR FURTHER INFORMATION CONTACT: Maegan Johnson or Livaughn Chapman, Jr., Office of Aviation Consumer Protection, U.S. Department of Transportation, 1200 New Jersey Avenue SE, Washington, DC 20590, telephone number (202) 366-9342 (voice), (202) 366-7152 (fax); maegan.johnson@dot.gov or livaughn.chapman@dot.gov (email). Arrangements to receive this document in an alternative format may be made by contacting the above-named individuals.

SUPPLEMENTARY INFORMATION: DOT published a Federal Register notice with a 30-day comment period soliciting comments on the information collections on April 29, 2024 (89 FR 33443). The notice was also submitted to OMB for review and approval on April 29, 2024. DOT's Office of Aviation Consumer Protection has posted accessible PDF and Word versions of this Notice on its website on its website, www.transportation.gov/airconsumer on its What's New Page, www.transportation.gov/airconsumer/latest-news.

* * * * *

Issued in Washington, DC.
Maegan Lea Johnson,
Senior Attorney, Office of Aviation Consumer Protection.

[FR Doc. 2024-10199 Filed 5-9-24; 8:45 am]

BILLING CODE 4910-9X-P